DEPARTMENT OF TRANSPORTATION

Federal Railroad Administration

[Docket Number FRA-2022-0067]

Petition for Waiver of Compliance

Under part 211 of title 49 Code of Federal Regulations (CFR), this document provides the public notice that by letters received January 12, 2024, and May 22, 2024, Illinois Central Railroad Company, a subsidiary of Canadian National Railway Company (CN), petitioned the Federal Railroad Administration (FRA) for a waiver of compliance from certain provisions of the Federal railroad safety regulations contained at 49 CFR part 232 (Brake System Safety Standards for Freight and Other Non-Passenger Trains and Equipment; End-of-Train Devices). The relevant Docket Number is FRA-2022-0067.

Specifically, CN seeks relief from the requirements of 49 CFR 232.305(b)(2), Single car air brake tests, to “permit the replacement of non-FRA condemnable wheelsets on rail cars as part of an in-train wheelset replacement program without the need to also perform the [single car air brake test (SCABT)]” as required. The existing wheelset replacement program which “identifies and replaces wheel-sets with minor defects, which are condemnable under [Association of American Railroads] standards,” operates under a waiver in Docket Number FRA-2019-0003 for a facility in Fulton, Kentucky. CN states that the program has been “a resounding success.” CN seeks to add a new location, Memphis, Tennessee, to its wheelset replacement program. The Memphis location would be “an alternative location to perform repairs and wheel-set replacements under an SCABT waiver[,] so as to avoid trains queuing at Fulton for work pursuant to” the waiver in Docket Number FRA-2019-0003 granted for the Fulton location.

In support of its request, CN states that “the repairs conducted and wheels changed out under the SCABT waiver have made a huge contribution to preventing and reducing the number of wheel, bearing, impact, and broken rail-caused derailments, as well as associated injuries.” CN adds that the program “will improve safety by significantly reducing the number of switching events required to replace wheel-sets as CN will no longer have to remove cars from trains at this location and place them in specialized repair tracks to replace the wheel-set.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by August 26, 2024 will be considered by FRA before final action is taken. Comments received after that date will be considered if practicable.

Anyone can search the electronic form of any written communications and comments received into any of the Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-13866 Filed 6-24-24; 8:45 am]

BILLING CODE 4910-06-P